DEPARTMENT OF LABOR

Employment and Training Administration

[TA-W-61,274]

Robert Bosch Corporation, Sumter, SC; Notice of Termination of Investigation

Pursuant to Section 221 of the Trade Act of 1974, as amended, an investigation was initiated on April 10, 2007 in response to a petition filed by the State of South Carolina on behalf of workers at Robert Bosch Corporation, Sumter, South Carolina.

The petitioning group of workers is covered by an active certification applicable to workers of Bosch-Sumter Plant, Automotive Technology-Chassis Division, Sumter, South Carolina (TA-W-60,006), which expires on September 22, 2008.

Consequently, further investigation in this case would serve no purpose, and the investigation has been terminated.

Signed at Washington, DC, this 13th day of April, 2007.
Linda G. Poole,
Certifying Officer, Division of Trade Adjustment Assistance.

[FR Doc. E7-7624 Filed 4-20-07; 8:45 am]

BILLING CODE 4510-FN-P